DEPARTMENT OF THE INTERIOR

Geological Survey

[GX24GG009950000]

Public Meeting of the Scientific Earthquake Studies Advisory Committee

AGENCY: Geological Survey, Department of the Interior.

ACTION: Notice of public meeting.

SUMMARY: In accordance with the Federal Advisory Committee Act (FACA), as amended, the U.S. Geological Survey (USGS) is publishing this notice to announce that a Federal Advisory Committee meeting of the Scientific Earthquake Studies Advisory Committee (SESAC) will take place.

DATES: The hybrid meeting will be held in person and virtually via Microsoft Teams on November 16, 2023, from 8:00 a.m. to 6:00 p.m., Mountain Time and on November 17, 2023, from 8:00 a.m. to 2 p.m. Mountain Time.

ADDRESSES: The in-person component of the meeting will be held at the USGS, 1711 Illinois St., Golden, Colorado. Comments can be sent to Dr. Gavin Hayes, USGS, by email at ghayes@usgs.gov or by telephone at 303-374-4449.

FOR FURTHER INFORMATION CONTACT: Dr. Gavin Hayes, USGS, by email at ghayes@usgs.gov or by telephone at 303-374-4449. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: This meeting is being held under the provisions of the FACA of 1972 (5 U.S.C., appendix 2), the Government in the Sunshine Act of 1976 (5 U.S.C. 552B, as amended), and 41 CFR 102-3.140 and 102-3.150.

Purpose of the Meeting: The SESAC will review current activities of the USGS Earthquake Hazards Program (EHP), discuss future priorities, and consider its draft report to the USGS Director.

Agenda Topics: Earthquake Hazards Program (EHP) strategic planning; administration priorities and interactions; budget opportunities; balance of activities supported by the EHP; external grants; National Earthquake Hazards Reduction Program (NEHRP); National Seismic Hazard Model; ShakeAlert; reports from SESAC sub-committees; the latest report to the USGS Director, and EHP responses.

Meeting Accessibility/Special Accommodations: The meeting is open to the public and will take place on November 16, 2023, from 8:00 a.m. to 6:00 p.m., Mountain Time and on November 17, 2023, from 8:00 a.m. to 2 p.m. Mountain Time. Members of the public wishing to attend the meeting should contact Dr. Gavin Hayes (see FOR FURTHER INFORMATION CONTACT). Virtual meeting instructions will be provided to registered attendees prior to the meeting.

Please make requests in advance for sign-language interpreter services, assistive listening devices, or other reasonable accommodations. We ask that you contact the person listed in the FOR FURTHER INFORMATION CONTACT section of this notice at least seven (7) business days prior to the meeting to give the Department of the Interior sufficient time to process your request. All reasonable accommodation requests are managed on a case-by-case basis.

Public Disclosure of Comments: There will be an opportunity for public comments during both days of the meeting. Depending on the number of people who wish to speak and the time available, the time for individual comments may be limited. Written comments may also be sent to the SESAC for consideration. To allow for full consideration of information by the SESAC members, written comments must be provided to Dr. Gavin Hayes (see FOR FURTHER INFORMATION CONTACT) at least three (3) business days prior to the meeting. Any written comments received will be provided to SESAC members before the meeting.

Before including your address, phone number, email address, or other personally identifiable information (PII) in your comment, you should be aware that your entire comment—including your PII—may be made publicly available at any time. While you may ask us in your comment to withhold your PII from public review, we cannot guarantee that we will be able to do so.

Authority: 5 U.S.C. ch. 10.

Linda R. Huey,
USGS Program Specialist, Natural Hazards Mission Area.

[FR Doc. 2023-23767 Filed 10-26-23; 8:45 am]

BILLING CODE 4338-11-P